DEPARTMENT OF THE INTERIOR

Bureau of Land Management

DEPARTMENT OF AGRICULTURE

Forest Service

[LLNV912000.L12200000.PM0000.LXSS006F0000; 10-08807; TAS: 14X1109]

Notice of Public Meeting: Recreation Subcommittee of the Resource Advisory Councils, NV.

AGENCIES: Bureau of Land Management, Interior and Forest Service, Agriculture.

ACTION: Notice of Recreation Advisory Subcommittee Meeting.

SUMMARY: In accordance with the Federal Lands Recreation Enhancement Act of 2004 (FLREA) (Pub. L. 108-447), the Humboldt-Toiyabe National Forest and Bureau of Land Management (BLM) Nevada joint Recreation Subcommittee will hold a meeting to discuss fee proposals at campgrounds managed by the Forest Service. The subcommittee is comprised of members of the BLM's three Nevada Resource Advisory Councils (RACs).

DATES: Date and Time: Wednesday, November 18, 2009, from 1 p.m. to 5 p.m. A general public comment period, where the public may submit oral or written comments to the Recreation Subcommittee will begin at 4:30 p.m. unless otherwise listed in the final meeting agenda. A news release will be sent to local and regional media at least 14 days before the meeting.

ADDRESSES: California Trail Interpretive Center, Hunter Exit, Interstate-80, Elko, Nevada.

FOR FURTHER INFORMATION CONTACT: Barbara Keleher, Outdoor Recreation Planner, telephone (775) 861-6628, BLM Nevada State Office, 1340 Financial Blvd., Reno, Nevada.

SUPPLEMENTARY INFORMATION: FLREA directs the Secretaries of the Interior and Agriculture to establish Recreation Resource Advisory Committees to provide advice and recommendations on recreation fees and fee areas in each State or region for Federal recreational lands and waters managed by the BLM or Forest Service. Nevada's recreation subcommittee includes members of the three existing BLM Nevada RACs and has responsibilities pertaining to both BLM and Forest Service managed Federal lands and waters according to a national interagency agreement between the Forest Service and BLM. This subcommittee will recommend new amenity fees and fee change proposals to the respective RAC(s) for each geographic region.

All meetings are open to the public. A final agenda will be available at http://www.blm.gov/nv/st/en/res/resource_advisory/recreation_rac.html. Individuals who need special assistance such as sign language interpretation or other reasonable accommodations may contact Barbara Keleher no later than 10 days prior to the meeting.

Ron Wenker,
BLM Nevada State Director.
Edward C. Monnig,
U.S. Forest Service, Supervisor, Humboldt-Toiyabe National Forest.

[FR Doc. E9-25291 Filed 10-20-09; 8:45 am]

BILLING CODE 4310-HC-P